DEPARTMENT OF AGRICULTURE

Farm Service Agency

7 CFR Parts 701, 760, and 786

RIN 0560-AI82

Removal of Obsolete Regulations

AGENCY: Farm Service Agency (FSA), Department of Agriculture.

ACTION: Final rule.

SUMMARY: FSA is in the process of reviewing all regulations within its purview to reduce regulatory burdens and costs. Pursuant to this review, FSA has identified the following obsolete, unnecessary, and outdated provisions in title 7 of the Code of Federal Regulation (CFR). FSA is removing these provisions to streamline and clarify the dictates of title 7. The changes in this rule will have no impacts on past or present FSA customers.

DATES: This rule is effective June 18, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. FSA has undertaken such a review and is accordingly rescinding the following provisions from title 7.

Regulatory Certifications

Executive Orders

This document does not meet the criteria for a significant regulatory action as specified by Executive Order (E.O.) 12866. This action also has no federalism or tribal implications and will not impose substantial unreimbursed compliance costs on States, local governments, or Indian Tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are:

Average Adjusted Gross Income Limitation (7 CFR 701.117)

Payments subject to the regulations at 7 CFR 701.117, authorized by Section 9003 of the U.S. Troop Readiness, Veterans' Care, Katrina Recovery, and Iraq Accountability Act of 2007 (Pub. L. 110-28), are no longer available as all funds have been used. Thus, for the reasons explained in the preamble, FSA is eliminating this section to streamline title 7.

Indemnity Payment Programs (7 CFR Part 760)

For the reasons described in the preamble, FSA is eliminating the assistance program regulations codified at 7 CFR part 760, subparts B through E. These regulations concern general provisions for supplemental agricultural disaster assistance programs; the Emergency Assistance for Livestock, Honeybees, and Farm-Raised Fish Program; the Livestock Forage Disaster Assistance Program; and the Livestock Indemnity Program, respectively. These regulations are obsolete as the operative assistance program regulations have been moved to 7 CFR part 1416, subparts A through D. FSA is therefore removing these provisions.

Further, regarding the regulations codified at 7 CFR part 760, subparts I through N, the time periods for which eligible losses could have been claimed under these regulations have since expired. These regulations concerned the 2005-2007 Crop Disaster Program, the 2005-2007 Livestock Indemnity Program, the 2005-2007 Livestock Compensation Program, the 2005-2007 Catfish Grant Program, and the Dairy Economic Loss Assistance Payment Program. Therefore, for the reasons explained in the preamble, FSA is thus removing these outdated provisions.

Dairy Disaster Assistance Payment Program (7 CFR 786)

The time periods for which eligible losses could have been claimed under this regulation have since expired. Therefore, pursuant to the preamble, this regulation is obsolete and unnecessary.

List of Subjects

7 CFR Part 701

Disaster assistance, Environmental protection, Forests and forest products, Grant programs—agriculture, Grant programs—natural resources, Reporting and recordkeeping requirements, Rural areas, Soil conservation, Water resources, Wildlife.

7 CFR Part 760

Acreage allotments, Dairy products, Indemnity payments, Pesticides and pests, Reporting and recordkeeping requirements.

7 CFR Part 786

Dairy products, Disaster assistance, Fraud, Penalties, Price support programs, Reporting and recordkeeping requirements.

For the reasons stated in the preamble, FSA amends 7 CFR parts 701, 760, and 786 as follows:

PART 701—EMERGENCY CONSERVATION PROGRAM, EMERGENCY FOREST RESTORATION PROGRAM, AND CERTAIN RELATED PROGRAMS PREVIOUSLY ADMINISTERED UNDER THIS PART

1. The authority citation for part 701 continues to read as follows:

Authority: 16 U.S.C. 2201-2206; Sec. 101, Pub. L. 109-148, 119 Stat. 2747; and Pub. L. 111-212, 124 Stat. 2302.

§ 701.117 [Removed and Reserved]

2. Remove and reserve § 701.117.

PART 760—INDEMNITY PAYMENT PROGRAMS

3. The authority citation for part 760 continues to read as follows:

Authority: 7 U.S.C. 4501 and 1531; 16 U.S.C. 3801, note; 19 U.S.C. 2497; Title III, Pub. L. 109-234, 120 Stat. 474; Title IX, Pub. L. 110-28, 121 Stat. 211; Sec. 748, Pub. L. 111-80, 123 Stat. 2131; Title I, Pub. L. 115-123, 132 Stat. 65; Title I, Pub. L. 116-20, 133 Stat. 871; Division B, Title VII, Pub. L. 116-94, 133 Stat. 2658; Title I, Pub. L. 117-43, 135 Stat. 356; and Division N, Title I, Pub. L. 117-328, 136 Stat. 4459; Division B, Title I, Pub. L. 118-158, 138 Stat. 1722.

Subparts B through E—[Removed and Reserved]

4. Remove and reserve subparts B through E.

Subparts I through N—[Removed and Reserved]

5. Remove and reserve subparts I through N.

PART 786—[Removed and Reserved]

6. Under the authority of 7 U.S.C. 553, remove and reserve part 786.

William Beam,
Administrator, Farm Service Agency.

[FR Doc. 2025-11204 Filed 6-17-25; 8:45 am]

BILLING CODE 3411-E2-P